DEPARTMENT OF ENERGY

Federal Energy Regulatory Commission

18 CFR Part 39

[Docket No. AD17-9-000]

Petition for Rulemaking; Foundation for Resilient Societies

AGENCY: Federal Energy Regulatory Commission, Department of Energy.

ACTION: Notice of petition for rulemaking.

SUMMARY: The Federal Energy Regulatory Commission has received a petition from the Foundation for Resilient Societies requesting the Commission initiate a rulemaking to require an enhanced reliability standard to detect, report, mitigate, and remove malware from the Bulk Power System, all as more fully explained in its petition.

DATES: Comments are due by 5 p.m. February 17, 2017.

ADDRESSES: The Commission encourages electronic submission of comments in lieu of paper using the “eFiling” link at http://www.ferc.gov. Persons unable to file electronically should submit an original and 5 copies of the comments to the Federal Energy Regulatory Commission, 888 First Street NE., Washington, DC 20426.

FOR FURTHER INFORMATION CONTACT: Kevin Ryan (Legal Information), Office of the General Counsel, Federal Energy Regulatory Commission, 888 First Street NE., Washington, DC 20426, (202) 502-6840, kevin.ryan@ferc.gov.

SUPPLEMENTARY INFORMATION: On January 13, 2017, the Foundation for Resilient Societies, pursuant to Rule 207 of the Federal Energy Regulatory Commission's (Commission) Rules of Practice and Procedure, 18 CFR 385.207, filed a petition requesting that the Commission initiate a rulemaking to require an enhanced reliability standard to detect, report, mitigate, and remove malware from the Bulk Power System, all as more fully explained in its petition.

Any person that wishes to comment in this proceeding must file comments in accordance with Rule 211 of the Commission's Rules of Practice and Procedure, 18 CFR 385.211 (2016). Comments will be considered by the Commission in determining the appropriate action to be taken. Comments must be filed on or before the comment date.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Dated: January 17, 2017.
Nathaniel J. Davis, Sr.,
Deputy Secretary.

[FR Doc. 2017-02065 Filed 2-1-17; 8:45 am]

BILLING CODE 6717-01-P